DEPARTMENT OF TRANSPORTATION

Federal Aviation Administration

14 CFR Part 39

[Docket No. 2002-CE-40-AD; Amendment 39-12911; AD 2002-21-05]

RIN 2120-AA64

Airworthiness Directives; REVO, Incorporated Models Lake LA-4, Lake LA-4A, Lake LA-4P, Lake LA-4-200, and Lake Model 250 Airplanes

AGENCY: Federal Aviation Administration, DOT.

ACTION: Final rule; request for comments.

SUMMARY: This amendment adopts a new airworthiness directive (AD) that applies to certain REVO, Incorporated (REVO) Models Lake LA-4, Lake LA-4A, Lake LA-4P, Lake LA-4-200, and Lake Model 250 airplanes. This AD requires you to inspect the upper and lower wing spar doublers and angles for cracks at a certain time after the incorporation of Modification Kit B-79 or FAA-approved equivalent, replace any cracked wing spar doubler or angle, and report the results of the inspection to the Federal Aviation Administration (FAA). The kit modification consists of installing a doubler kit to give the spar an adequate fatigue life. This AD is the result of an incident of a crack found at the most outboard wing attachment fitting hole on one of the affected airplanes with the modification incorporated. The actions specified by this AD are intended to prevent wing spar failure caused by cracks in the wing spar doublers or angles, which could result in the wing separating from the airplane with consequent loss of control.

DATES: This AD becomes effective on October 23, 2002.

The Federal Aviation Administration (FAA) must receive any comments on this rule on or before November 1, 2002.

ADDRESSES: Submit comments to FAA, Central Region, Office of the Regional Counsel, Attention: Rules Docket No. 2002-CE-40-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-40-AD” in the subject line. If you send comments electronically as attached electronic files, the files must be formatted in Microsoft Word 97 for Windows or ASCII text.

You may get information related to this AD from FAA, Central Region, Office of the Regional Counsel, Attention: Rules Docket No. 2002-CE-40-AD, 901 Locust, Room 506, Kansas City, Missouri 64106.

FOR FURTHER INFORMATION CONTACT: Mr. Richard B. Noll, Aerospace Engineer, FAA, Boston Aircraft Certification Office, 12 New England Executive Park, Burlington, Massachusetts 01803; telephone: (781) 238-7160; facsimile: (781) 238-7170.

SUPPLEMENTARY INFORMATION:

Discussion

What Events Have Caused This AD?

The FAA has received a report of a crack at the most outboard wing attachment fitting bolt hole on a REVO Model Lake LA-4-200 airplane. This airplane had incorporated the modification from AD 2000-10-22, Amendment 39-11746 (65 FR 34065, May 26, 2000), which requires the following on REVO Models Lake LA-4, Lake LA-4A, Lake LA-4P, Lake LA-4-200, and Lake Model 250 airplanes:

—Inspection of the left and right wing upper and lower spar doublers for cracks;

—Replacement of any cracked parts; and

—Incorporation of the B-79 Modification Kit or FAA-approved equivalent.

This modification consists of installing a doubler kit to give the spar an adequate fatigue life. The repetitive inspections are no longer required after incorporation of this modification.

AD 2000-10-12 was the result of reports of a fatigue crack found at the second most inboard wing attachment bolt hole on one of the affected airplanes and similar fatigue cracking on seven more of the affected airplanes.

The most recent accident airplane had accumulated about 50 hours time-in-service (TIS) since incorporating the modification required by AD 2000-10-22.

What Are the Consequences if the Condition Is Not Corrected?

This condition, if not corrected, could result in wing spar failure and the wing separating from the airplane with consequent loss of control.

The FAA's Determination and an Explanation of the Provisions of This AD

What Has FAA Decided?

The FAA has reviewed all available information, including the service information referenced above; and determined that:

—The unsafe condition referenced in this document exists or could develop on other REVO Models Lake LA-4, Lake LA-4A, Lake LA-4P, Lake LA-4-200, and Lake Model 250 airplanes of the same type design;

—The affected airplanes that incorporate the modification required by AD 2000-10-22 should have the wing spar doublers and angles inspected for cracks and have any cracked parts replaced; and

—AD action should be taken in order to correct this unsafe condition.

What Does This AD Require?

This AD requires you to accomplish the following:

—Inspect the upper and lower wing spar doublers and angles for cracks at a certain time after the incorporation of Modification Kit B-79 or FAA-approved equivalent as required by AD 2000-10-22;

—Replace any cracked wing spar doubler or angle; and

—Report the results of the inspection to FAA.

In preparation of this rule, we contacted type clubs and aircraft operators to obtain technical information and information on operational and economic impacts. We have included, in the rulemaking docket, a discussion of information that may have influenced this action.

Will I Have the Opportunity To Comment Prior to the Issuance of the Rule?

Because the unsafe condition described in this document could result in the wing separating from the airplane with consequent loss of control, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention To?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your written comments, you must include a self-addressed, stamped postcard. On the postcard, write “Comments to Docket No. 2002-CE-40-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2002-21-05 Revo, Incorporated: Amendment 39-12911; Docket No. 2002-CE-40-AD.

(a) What airplanes are affected by this AD? This AD applies to the model and serial number airplanes in paragraph (a)(1) of this AD and that incorporate any of the wing spar part numbers (or FAA-approved equivalent part numbers) specified in paragraph (a)(2) of this AD:

(1) Affected Airplanes: This following model and serial number airplanes, certificated in any category, are affected by this AD:

Model | Serial Nos.
Lake LA-4 | 246 through 421, 423 through 429, 445, and 446.
Lake LA-4A | 244 and 245.
Lake LA-4P | 121.
Lake LA-4-200 | 422, 430 through 444, and all serial numbers after 446.
Lake Model 250 | 1 through 232.

(2) Wing Spar Part Numbers Incorporated: The following specifies the part numbers of the wing spars that are installed on the affected airplanes:

Wing spar parts | Part Nos.
Upper Spar Cap Angles | 2-1610-015 and 2-1610-016.
Lower Spar Cap Angles | 2-1610-075 and 2-1610-076.
Upper Spar Doublers | 2-1610-061 and 2-1610-081 and 2-1610-065.
Lower Spar Doublers | 2-1610-063 and 2-1610-083.

(b) Who must comply with this AD? Anyone who wishes to operate any of the airplanes identified in paragraph (a) of this AD must comply with this AD.

(c) What problem does this AD address? The actions specified by this AD are intended to prevent wing spar failure caused by cracks in the wing spar doublers or angles, which could result in the wing separating from the airplane with consequent loss of control.

(d) What must I do to address this problem? To address this problem, you must accomplish the following actions:

Actions | Compliance
(1) Inspect the wing spar doublers and spar cap angles for cracks from the root end to the outboard of the wing attachment fittings, as follows: (i) From inside the wheel well, clean the upper and lower wing spar doublers and adjoining structure to the paint. Use a detergent or mineral-based solvent. (ii) Use a strong light source and a 3x magnifying glass to inspect the exposed areas of the upper and lower spar doublers and adjoining structure for cracks. Use a mirror to inspect the exposed edge of the spar cap angle behind the doubler. | Upon accumulating 25 hours time-in-service (TIS) after incorporating Modification B-79 or FAA-approved equivalent (the modification required by AD 2000-10-22) or within the next 10 hours TIS after October 23, 2002 (the effective date of this AD), whichever occurs later, unless already accomplished after accumulating 25 hours TIS after incorporating the modification required by AD 2000-10-22.
(2) Replace any doubler or angle found cracked during the inspection required by paragraphs (d)(1), (d)(1)(i), and (d)(1)(ii) of this AD. Replace with new parts that incorporate the same part numbers or FAA-approved equivalent part numbers | Prior to further flight after the inspection.
(3) Report the results of the inspection to the FAA at the address specified in paragraph (f) of this AD. Use the inspection report that is included as Figure 1 of this AD. The Office of Management and Budget (OMB) approved the information collection requirements contained in this regulation under the provisions of the Paperwork Reduction Act of 1980 (44 U.S.C. 3501 et seq.) and assigned OMB Control Number 2120-0056 | Within 7 days after the the inspection required by this AD or 7 days after October 23, 2002 (the effective date of this AD), whichever occurs later.

Figure 1 to AD 2002-21-05—Inspection Report

Report the following information to: Manager, Boston Aircraft Certification Office, Engine And Propeller Directorate, Aircraft Certification Service, Federal Aviation Administration, 12 New England Executive Park, Burlington, MA 01803-5299, Fax: (781) 238-7170.

Operator/Repair Station

Aircraft Model

Aircraft S/N

Date of Inspection

Aircraft Time-in Service (TIS):

Total

Since installation of AD 2000-10-22 Kit

Note: Add additional pages for the following for each part inspected.

Part No.

Inspection

Pass

Fail

If a crack is found, indicate the approximate location on the part and the length of the crack in inches:

Part Time-In Service (TIS) (Hours):

Estimated

Actual

Unknown

(e) Can I comply with this AD in any other way? You may use an alternative method of compliance or adjust the compliance time if:

(1) Your alternative method of compliance provides an equivalent level of safety; and

(2) The Manager, Boston Aircraft Certification Office (ACO), approves your alternative. Submit your request through an FAA Principal Maintenance Inspector, who may add comments and then send it to the Manager, Boston ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. Richard B. Noll, Aerospace Engineer, FAA, Boston Aircraft Certification Office, 12 New England Executive Park, Burlington, Massachusetts 01803; telephone: (781) 238-7160; facsimile: (781) 238-7170.

(g) What if I need to fly the airplane to another location to comply with this AD? The FAA can issue a special flight permit under sections 21.197 and 21.199 of the Federal Aviation Regulations (14 CFR 21.197 and 21.199) to operate your airplane to a location where you can accomplish the requirements of this AD.

(h) When does this amendment become effective? This amendment becomes effective on October 23, 2002.

Issued in Kansas City, Missouri, on October 8, 2002.
Michael Gallagher,
Manager, Small Airplane Directorate, Aircraft Certification Service.

[FR Doc. 02-26371 Filed 10-16-02; 8:45 am]

BILLING CODE 4910-13-P